DEPARTMENT OF TRANSPORTATION

Federal Aviation Administration

Public Notice for Waiver of Aeronautical Land-Use Assurance, Wood County Regional Airport, Bowling Green, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of one parcel of land described as Wood County Parcel ID#B07511180301029001 consisting of a 2.15 acre triangle of vacant land lying northeast of North College Road. The land was acquired under FAA Project No. 88-1-3-39-0010-0690. There are no impacts to the airport by allowing the airport to dispose of the property. The Wood County Regional Airport Authority is proposing to sell the property to the Bowling Green Recycling Center, Inc. The revenue made from the sale will be used toward Airport Capital Improvement.

Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with § 47107(h) of title 49, United States Code, this notice is required to be published in the Federal Register 30 days before modifying the land-use assurance that requires the property to be used for an aeronautical purpose.

DATES: Comments must be received on or before August 23, 2004.

FOR FURTHER INFORMATION CONTACT: Mr. Mike Hodges, Airport Manager, Wood County Regional Airport, 1255 East Poe Road, Bowling Green, Ohio 43402. Telephone Number ((419) 354-2908)/Fax Number ((419-352-5075). Documents reflecting this FAA action may be reviewed at this same location.

SUPPLEMENTARY INFORMATION: Following is a legal description of the property located in Bowling Green, Wood County, Ohio, and described as follows:

Situated in the City of Bowling Green, Center Township, Wood County, Ohio, and being a part of the southwest fractional quarters of Section eighteen (18), Town five (5) North, Range eleven (11) East, also being a part of a tract of land as conveyed to Armco, Inc. by deed recorded in Volume 547, page 881, Wood County Deed Records, and being more particularly described as follows:

Commencing, for reference, at a found pony spike at the south quarter post of Section eighteen (18); thence north eighty-eight (88) degrees, thirty-three (33) minutes, fifty-three (53) seconds west, six hundred sixty-five (665) feet on and along the south line of Section eighteen (18) and the center of East Poe Road to the southeast corner of aforesaid Armco tract of land; thence north zero (00) degrees, forty (40) minutes, twenty-nine (29) seconds east, six hundred eighty-six and fifty-seven hundredths (686.57) feet along the east line of aforesaid Armco tract of land to a point, forty-five (45) feet easterly of the centerline of right of way for North College Extension, said point being the principle place of beginning for the tract herein to be described; thence north twenty-five (25) degrees, forty-two (42) minutes, thirteen (13) seconds west, three hundred eighty-one and thirty-four hundredths (381.34) feet to a point, forty-five (45) feet easterly of the centerline of right of way for North College Extension and the beginning of a non-tangent curve concave to the southwest having a radius of two thousand eight hundred nineteen and seventy-nine hundredths (2819.79) feet; thence northwesterly along said curve three hundred five and eighty-nine hundredths (305.89) feet to a point, at the beginning of a non-tangent line, said point being at the intersection of the north line of said Armco tract and said easterly right of way line, and being forty-five (45) feet easterly of the centerline of right of way for North College Extension, (a chord-three hundred five and seventy-four hundredths (305.74) feet north, twenty-one degrees, fourteen (14) minutes, twenty-nine (29) seconds west); thence south eighty-eight (88) degrees, forty-two (42) minutes, thirty-one (31) seconds east, two hundred eighty-three and fifty-six hundredths (283.56) feet on and along said north line to a found concrete monument with iron pin at the northeast corner of said Armco tract; thence south zero (00) degrees, forty (40) minutes, twenty-nine (29) second west, six hundred twenty-two and twenty-three hundredth (622.23) feet on and along the east line of said Armco tract to the point of beginning enclosing an area of two and fifteen hundredths (2.15) acres of land, more or less. The bearings referred to herein are based upon an assumed meridian and are used only for the purpose of angular measurement.

Issued in Romulus, Michigan, on July 7, 2004.
Irene R. Porter,
Manager, Detroit Airports District Office, FAA, Great Lakes Region.

[FR Doc. 04-16849 Filed 7-22-04; 8:45 am]

BILLING CODE 4910-13-M